DEPARTMENT OF HEALTH AND HUMAN SERVICES

Centers for Disease Control and Prevention

Mine Safety and Health Research Advisory Committee

AGENCY: Centers for Disease Control and Prevention (CDC), Department of Health and Human Services (HHS).

ACTION: Notice of meeting.

SUMMARY: In accordance with regulatory provisions, the Centers for Disease Control and Prevention (CDC) announces the following meeting for the Mine Safety and Health Research Advisory Committee (MSHRAC). This is a hybrid meeting, accessible both in person and virtually. It is open to the public and limited only by the space available and the number of web conference lines available. Time will be available for public comment.

DATES: The meeting will be held on May 24, 2023, from 8:30 a.m. to 4:25 p.m., PDT.

ADDRESSES: Centers for Disease Control and Prevention, National Institute for Occupational Safety and Health, Spokane Campus, 315 East Montgomery Avenue, Spokane, Washington 99207-2291. The conference room space accommodates approximately 49 people.

Please note that the meeting location is a federal facility, and in-person access is limited to United States citizens unless prior authorizations, taking up to 30 days, have been made.

If you wish to attend the meeting, either in person or virtually, please contact Ms. Berni Metzger by email at Metzger@cdc.gov or by phone at (412) 386-4541 at least 5 business days in advance of the meeting. If you are attending virtually, she will provide you with the Zoom web conference access information (500 web conference lines are available).

FOR FURTHER INFORMATION CONTACT: George W. Luxbacher, PE, Ph.D., Designated Federal Officer, Mine Safety and Health Research Advisory Committee, National Institute for Occupational Safety and Health, Centers for Disease Control and Prevention, 1600 Clifton Road NE, Mailstop V24-4, Atlanta, Georgia 30329-4027. Telephone: (404) 498-2808; Email: GLuxbacher@cdc.gov.

SUPPLEMENTARY INFORMATION:

Purpose: The Mine Safety and Health Research Advisory Committee (MSHRAC) is charged with providing advice to the Secretary, Department of Health and Human Services; the Director, Centers for Disease Control and Prevention; and the Director, National Institute for Occupational Safety and Health (NIOSH), on priorities in mine safety and health research, including grants and contracts for such research, 30 U.S.C. 812(b)(2), Section 102(b)(2).

Matters To Be Considered: The agenda will include presentations of and discussions on current NIOSH mining safety and health research projects, focusing on the Spokane Mining Research Division. Agenda items are subject to change as priorities dictate.

Public Participation

Written Public Comment: The public may submit written comments or questions in advance of the meeting, to the Designated Federal Officer (see FOR FURTHER INFORMATION CONTACT above). Written comments received in advance of the meeting will be included in the official record of the meeting, and questions will be answered during the oral comment period open to public participation.

Oral Public Comment: The meeting will include time for members of the public to make an oral comment. The public comment session will be held on May 24, 2023, at 3:15 p.m., PDT, or at the conclusion of the presentations and discussion, and will conclude at 3:45 p.m., PDT, or following the final call for public comment, whichever comes first.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-09068 Filed 4-28-23; 8:45 am]

BILLING CODE 4163-18-P